DEPARTMENT OF ENERGY

Federal Energy Regulatory Commission

Combined Notice of Filings

August 16, 2010.

Take notice that the Commission has received the following Natural Gas Pipeline Rate and Refund Report filings:

Docket Numbers: RP10-1060-000.

Applicants: Northwest Pipeline GP.

Description: Northwest Pipeline GP submits tariff filing per 154.204: Northwest Pipeline GP—Minor Corrections and Housekeeping Tariff Filing to be effective 9/13/2010.

Filed Date: 08/11/2010.

Accession Number: 20100811-5058.

Comment Date: 5 p.m. Eastern Time on Monday, August 23, 2010.

Docket Numbers: RP10-1061-000.

Applicants: Fayetteville Express Pipeline LLC.

Description: Fayetteville Express Pipeline LLC submits tariff filing per 154.203: FEP Baseline Filing to be effective 10/1/2010.

Filed Date: 08/11/2010.

Accession Number: 20100811-5059.

Comment Date: 5 p.m. Eastern Time on Monday, August 23, 2010.

Docket Numbers: RP10-1062-000.

Applicants: Crossroads Pipeline Company.

Description: Crossroads Pipeline Company submits tariff filing per 154.203: Baseline Filing to be effective 8/11/2010.

Filed Date: 08/11/2010.

Accession Number: 20100811-5088.

Comment Date: 5 p.m. Eastern Time on Monday, August 23, 2010.

Docket Numbers: RP10-1063-000.

Applicants: Gulfstream Natural Gas System, L.L.C.

Description: Gulfstream Natural Gas System, L.L.C. submits tariff filing per 154.204: Gulfstream PALS Filing to be effective 11/1/2010.

Filed Date: 08/11/2010.

Accession Number: 20100811-5089.

Comment Date: 5 p.m. Eastern Time on Monday, August 23, 2010.

Docket Numbers: RP10-1064-000.

Applicants: Millennium Pipeline Company, LLC.

Description: Millennium Pipeline Company, LLC submits tariff filing per 154.203: Activity Report—Compliance Filing on Rate Schedules FT-2, BH-1 & HT-1.

Filed Date: 08/12/2010.

Accession Number: 20100812-5029.

Comment Date: 5 p.m. Eastern Time on Tuesday, August 24, 2010.

Docket Numbers: RP10-1065-000.

Applicants: Millennium Pipeline Company, LLC.

Description: Millennium Pipeline Company, LLC submits tariff filing per 154.402: ACA 2010 to be effective 10/1/2010.

Filed Date: 08/12/2010.

Accession Number: 20100812-5036.

Comment Date: 5 p.m. Eastern Time on Tuesday, August 24, 2010.

Docket Numbers: RP10-1066-000.

Applicants: Rendezvous Gas Pipeline Company, L.L.C.

Description: Submission of Five-Year Report and Request for Modification of Conditions of Rendezvous Gas Pipeline Company, L.L.C.

Filed Date: 07/16/2010.

Accession Number: 20100716-5038.

Comment Date: 5 p.m. Eastern Time on Monday, August 23, 2010.

Docket Numbers: RP10-1067-000.

Applicants: Equitrans, L.P.

Description: Equitrans, L.P. submits tariff filing per 154.204: FTS Rate Schedule and Form of Service Agreement Revisions and Tariff Corrections to be effective 9/11/2010.

Filed Date: 08/12/2010.

Accession Number: 20100812-5060.

Comment Date: 5 p.m. Eastern Time on Tuesday, August 24, 2010.

Docket Numbers: RP10-1068-000.

Applicants: Williston Basin Interstate Pipeline Company.

Description: Williston Basin Interstate Pipeline Company submits Fourth Revised Sheet 371A to FERC Gas Tariff, Second Revised Volume 1 to be effective 9/11/10.

Filed Date: 08/12/2010.

Accession Number: 20100812-0201.

Comment Date: 5 p.m. Eastern Time on Tuesday, August 24, 2010.

Docket Numbers: RP10-1069-000.

Applicants: Kinder Morgan Interstate Gas Transmission LLC.

Description: Kinder Morgan Interstate Gas Transmission LLC submits tariff filing per 154.203: Baseline to be effective 8/13/2010.

Filed Date: 08/13/2010.

Accession Number: 20100813-5000.

Comment Date: 5 p.m. Eastern Time on Wednesday, August 25, 2010.

Docket Numbers: RP10-1070-000.

Applicants: Northern Natural Gas Company.

Description: Northern Natural Gas Company submits Sixth Revised Sheet 263F et al. to FERC Gas Tariff, Fifth Revised Volume 1 to be effective 11/1/10.

Filed Date: 08/12/2010.

Accession Number: 20100813-0204.

Comment Date: 5 p.m. Eastern Time on Tuesday, August 24, 2010.

Docket Numbers: RP10-1070-001.

Applicants: Northern Natural Gas Company.

Description: Northern Natural Gas Company submits 15 Revised Sheet 236H et al. of its FERC Gas Tariff, Fifth Revised Volume 1 effective 11/1/10.

Filed Date: 08/13/2010.

Accession Number: 20100813-0205.

Comment Date: 5 p.m. Eastern Time on Wednesday, August 25, 2010.

Docket Numbers: RP10-1071-000.

Applicants: Ozark Gas Transmission, L.L.C.

Description: Ozark Gas Transmission, L.L.C. submits tariff filing per 154.203: Ozark Baseline Filing to be effective 8/13/2010.

Filed Date: 08/13/2010.

Accession Number: 20100813-5018.

Comment Date: 5 p.m. Eastern Time on Wednesday, August 25, 2010.

Docket Numbers: RP10-1072-000.

Applicants: Egan Hub Storage, LLC.

Description: Egan Hub Storage, LLC submits tariff filing per 154.204: Contract 310527-R1 to be effective 8/1/2010.

Filed Date: 08/13/2010.

Accession Number: 20100813-5021.

Comment Date: 5 p.m. Eastern Time on Wednesday, August 25, 2010.

Docket Numbers: RP10-1073-000.

Applicants: Bison Pipeline LLC.

Description: Bison Pipeline LLC Pro Forma Tariff Filing re the Bison Pipeline Project.

Filed Date: 08/12/2010.

Accession Number: 20100812-5125.

Comment Date: 5 p.m. Eastern Time on Tuesday, August 24, 2010.

Docket Numbers: RP10-1074-000.

Applicants: MarkWest Pioneer, L.L.C.

Description: MarkWest Pioneer, L.L.C. submits tariff filing per 154.203: MarkWest Pioneer—Baseline Filing to be effective 8/13/2010.

Filed Date: 08/13/2010.

Accession Number: 20100813-5044.

Comment Date: 5 p.m. Eastern Time on Wednesday, August 25, 2010.

Docket Numbers: RP10-1075-000.

Applicants: Gulfstream Natural Gas System, L.L.C.

Description: Gulfstream Natural Gas System, L.L.C. submits tariff filing per 154.204: Gulfstream Delivery Pressure Filing to be effective 9/12/2010.

Filed Date: 08/13/2010.

Accession Number: 20100813-5047.

Comment Date: 5 p.m. Eastern Time on Wednesday, August 25, 2010.

Docket Numbers: RP10-1076-000.

Applicants: Panther Interstate Pipeline Energy, LLC.

Description: Panther Interstate Pipeline Energy, LLC submits tariff filing per 154.203: Panther Baseline eTariff Filing to be effective 8/12/2010.

Filed Date: 08/13/2010.

Accession Number: 20100813-5051.

Comment Date: 5 p.m. Eastern Time on Wednesday, August 25, 2010.

Docket Numbers: RP10-1077-000.

Applicants: MarkWest New Mexico, L.L.C.

Description: MarkWest New Mexico, L.L.C. submits tariff filing per 154.203: MarkWest New Mexico—Baseline Filing to be effective 8/13/2010.

Filed Date: 08/13/2010.

Accession Number: 20100813-5095

Comment Date: 5 p.m. Eastern Time on Wednesday, August 25, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-20935 Filed 8-23-10; 8:45 am]

BILLING CODE 6717-01-P